DEPARTMENT OF THE INTERIOR

Bureau of Land Management

[BLM_CO_FRN_MO4500172670]

Notice of Filing of Plats of Survey, Colorado

AGENCY: Bureau of Land Management, Interior.

ACTION: Notice of official filing.

SUMMARY: The plats of survey of the following described lands are scheduled to be officially filed in the Bureau of Land Management (BLM), Colorado State Office, Lakewood, Colorado, 30 calendar days from the date of this publication. The surveys, which were executed at the request of the U.S. Forest Service, are necessary for the management of these lands.

DATES: Unless there are protests of this action, the plats described in this notice will be filed on August 28, 2023.

ADDRESSES: You may submit written protests to the BLM Colorado State Office, Cadastral Survey, P.O. Box 151029, Lakewood, CO 80215.

FOR FURTHER INFORMATION CONTACT: David W. Ginther, Chief Cadastral Surveyor for Colorado, telephone: (970) 826-5064; email: dginther@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The plat and field notes of the dependent resurvey and survey in Townships 32 North, Ranges 6 and 7 East, New Mexico Principal Meridian, Colorado, were accepted on April 27, 2023.

The plat incorporating the field notes of the remonumentation of a corner in Township 5 North, Range 72 West, Sixth Principal Meridian, Colorado, was accepted on May 19, 2023.

The plat incorporating the field notes of the remonumentation of a corner in Township 10 North, Range 73 West, Sixth Principal Meridian, Colorado, was accepted on May 19, 2023.

The plat and field notes of the corrective dependent resurvey and survey in Township 9 North, Range74 West, Sixth Principal Meridian, Colorado, were accepted on June 6, 2023.

The plat and field notes of the dependent resurvey and subdivision of section 14 in Township 11 North, Range 73 West, Sixth Principal Meridian, Colorado, were accepted on June 15, 2023.

The plat and field notes of the dependent resurvey in Township 10 North, Range 72 West, Sixth Principal Meridian, Colorado, were accepted on July 7, 2023.

A person or party who wishes to protest any of the above surveys must file a written notice of protest within 30 calendar days from the date of this publication at the address listed in the ADDRESSES section of this notice. A statement of reasons for the protest may be filed with the notice of protest and must be filed within 30 calendar days after the protest is filed. If a protest against the survey is received prior to the date of official filing, the filing will be stayed pending consideration of the protest. A plat will not be officially filed until the day after all protests have been dismissed or otherwise resolved.

Before including your address, phone number, email address, or other personal identifying information in your protest, please be aware that your entire protest, including your personal identifying information, may be made publicly available at any time. While you can ask us in your comment to withhold your personal identifying information from public review, we cannot guarantee that we will be able to do so.

(Authority: 43 U.S.C. Chap. 3)

David W. Ginther,
Chief Cadastral Surveyor.

[FR Doc. 2023-15859 Filed 7-26-23; 8:45 am]

BILLING CODE 4331-16-P